DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App 2, the United States Department of Agriculture (USDA) announces a meeting of the National Agricultural Research, Extension, Education, and Economics Advisory Board.

DATES: The National Agricultural Research, Extension, Education, and Economics Advisory Board will meet October 27-29, 2010. The public may file written comments before or up to two weeks after the meeting with the contact person.

ADDRESSES: The meeting will take place at the Hotel Palomar, 2121 P Street, NW., Washington, DC 20037. Written comments from the public may be sent to the Contact Person identified in this notice at: The National Agricultural Research, Extension, Education, and Economics Advisory Board Office, Room 3901 South Building, United States Department of Agriculture, STOP 0321, 1400 Independence Avenue, SW., Washington, DC 20250-0321.

FOR FURTHER INFORMATION CONTACT: J. Robert Burk, Executive Director or Shirley Morgan-Jordan, Program Support Coordinator, National Agricultural Research, Extension, Education, and Economics Advisory Board; telephone: (202) 720-3684; fax: (202) 720-6199; or e-mail: Robert.Burk@ars.usda.gov or Shirley.Morgan@ars.usda.gov.

SUPPLEMENTARY INFORMATION: The Honorable Secretary of Agriculture Tom Vilsack, and the Under Secretary of Research, Education, and Economics have been invited to provide brief remarks and welcome the new Board members during the meeting.

On Wednesday, October 27, 2010, an orientation session for new members and interested incumbent members will be held from 9 a.m.-12 p.m. (noon). The full Advisory Board will convene at 12 p.m. (noon) with introductory remarks by the Chair of the Advisory Board. The afternoon session will include: Brief introductions of new Board members, incumbents, and guests; comments from a variety of distinguished leaders, experts, and departmental personnel; items of board business; and will conclude with comments from the public. Specific items on the afternoon session will include the return on investment in USDA and partnering institution's research, extension, education, and economic programs and their impact on the productivity of agriculture. The meeting will adjourn by 5 p.m.

On Thursday, October 28, 2010, the Board will reconvene at 8:30 a.m. Presentations and discussions throughout the day will include congressional staff and agency administrators, and will focus on the evaluation of the trajectory and focus of funding for the Research, Education, and Economics mission area. Agency leaders will provide information for the Board to consider while developing recommendations regarding future funding directions. The meeting will adjourn by 5 p.m.

On Friday, October 29, 2010, the Board plans to reconvene at 8:30 a.m. to discuss initial recommendations resulting from the meeting and future planning for the Board, and to finalize Board business for the meeting. Opportunity for public comment will be offered each day of the meeting. The Board Meeting will adjourn by 12 p.m. (noon) on Friday, October 29, 2010.

Written comments by attendees or other interested stakeholders will be welcomed for the public record before and up to two weeks following the Board meeting (by close of business Friday, November 12, 2010). All statements will become a part of the official record of the National Agricultural Research, Extension, Education, and Economics Advisory Board and will be kept on file for public review in the Research, Extension, Education, and Economics Advisory Board Office.

Done at Washington, DC, September 29, 2010.
Ann Bartuska,
Acting Under Secretary, Research, Education, and Economics.

[FR Doc. 2010-25064 Filed 10-5-10; 8:45 am]

BILLING CODE 3410-22-P